DEPARTMENT OF TRANSPORTATION

Federal Aviation Administration

14 CFR Part 39

[Docket No. FAA-2018-0546; Product Identifier 2017-NM-171-AD; Amendment 39-19461; AD 2018-21-03]

RIN 2120-AA64

Airworthiness Directives; Bombardier, Inc., Airplanes

AGENCY: Federal Aviation Administration (FAA), Department of Transportation (DOT).

ACTION: Final rule.

SUMMARY: We are adopting a new airworthiness directive (AD) for certain Bombardier, Inc., Model BD-700-1A10 and BD-700-1A11 airplanes. This AD was prompted by reports of multiple in-flight departures of the aft belly fairing access panels. This AD requires modification of the aft belly fairing access panels. We are issuing this AD to address the unsafe condition on these products.

DATES: This AD is effective November 19, 2018.

The Director of the Federal Register approved the incorporation by reference of certain publications listed in this AD as of November 19, 2018.

ADDRESSES: For service information identified in this final rule, contact Bombardier, Inc., 400 Côte Vertu Road West, Dorval, Québec H4S 1Y9, Canada; telephone 514-855-5000; fax 514 855-7401; email thd.crj@aero.bombardier.com; internet http://www.bombardier.com. You may view this service information at the FAA, Transport Standards Branch, 2200 South 216th St., Des Moines, WA. For information on the availability of this material at the FAA, call 206-231-3195. It is also available on the internet at http://www.regulations.gov by searching for and locating Docket No. FAA-2018-0546.

Examining the AD Docket

You may examine the AD docket on the internet at http://www.regulations.gov by searching for and locating Docket No. FAA-2018-0546; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Andrea Jimenez, Aerospace Engineer, Airframe and Propulsion Section, FAA, New York ACO Branch, 1600 Stewart Avenue, Suite 410, Westbury, NY 11590; telephone 516-228-7330; fax 516-794-5531; email 9-avs-nyaco-cos@faa.gov.

SUPPLEMENTARY INFORMATION:

Discussion

We issued a notice of proposed rulemaking (NPRM) to amend 14 CFR part 39 by adding an AD that would apply to certain Bombardier, Inc., Model BD-700-1A10 and BD-700-1A11 airplanes. The NPRM published in the Federal Register on June 20, 2018 (83 FR 28553). The NPRM was prompted by reports of multiple in-flight departures of the aft belly fairing access panels. The NPRM proposed to require modification of the aft belly fairing access panels.

We are issuing this AD to address in-flight departures of the aft belly fairing access panels, which could result in runway hazards or hazards to people on the ground.

Transport Canada Civil Aviation (TCCA), which is the aviation authority for Canada, has issued Canadian AD CF-2017-31, dated September 22, 2017 (referred to after this as the Mandatory Continuing Airworthiness Information, or “the MCAI”), to correct an unsafe condition for certain Bombardier, Inc., Model BD-700-1A10 and BD-700-1A11 airplanes. The MCAI states:

There have been multiple in-service occurrences where operators reported in-flight departure of the aft belly fairing access panels, 185CL and/or 186CR. There has been no damage reported to the affected aircraft to date, however departure of the panels in any phase of flight could create runway hazards or a hazard to persons and property on the ground.

Bombardier Inc. has issued Service Bulletins (SBs) to incorporate new self-locking nutplates with associated hardware (retaining rings and studs) to improve fastener engagement. A bracket has also been added to provide two additional panel attachment points.

This [Canadian] AD requires the incorporation of these design changes to prevent departure of the two aft belly fairing access panels in flight and the associated risk on the ground.

You may examine the MCAI in the AD docket on the internet at http://www.regulations.gov by searching for and locating Docket No. FAA-2018-0546.

Comments

We gave the public the opportunity to participate in developing this final rule. The following presents the comment received on the NPRM and the FAA's response to that comment.

Request To Include Additional Document in Credit for Previous Actions Paragraph

Bombardier requested that paragraph (h) of the proposed AD, “Credit for Previous Actions,” be revised to include Bombardier Service Request for Product Support Action 124026 (“SRPSA 124026”). The requester noted that Canadian AD CF-2017-31, dated September 22, 2017, included a statement that incorporation of the actions described in Bombardier SRPSA 124026 on an airplane satisfies the intent of the Canadian AD. The commenter also noted that Bombardier SRPSA 124026 was utilized on a U.S.-registered airplane having number N211PB and serial number 9378.

We agree with the commenter's request for the reasons provided by the commenter. We have added paragraph (h)(2) to this AD to provide credit for airplanes on which Bombardier SRPSA 124026 has been incorporated.

Conclusion

We reviewed the relevant data, considered the comment received, and determined that air safety and the public interest require adopting this final rule with the change described previously, and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

Bombardier has issued the following service information:

• Service Bulletin 700-1A11-53-025, Revision 01, dated December 16, 2016;

• Service Bulletin 700-53-050, Revision 01, dated December 16, 2016;

• Service Bulletin 700-53-5009, Revision 01, dated December 16, 2016; and

• Service Bulletin 700-53-6008, Revision 01, dated December 16, 2016.

This service information describes actions to modify the aft belly fairing access panels by replacing the attachments. These documents are distinct since they apply to different airplane models in different configurations. This service information is reasonably available because the interested parties have access to it through their normal course of business or by the means identified in the ADDRESSES section.

Costs of Compliance

We estimate that this AD affects 110 airplanes of U.S. registry. We estimate the following costs to comply with this AD:

Estimated Costs
Labor cost | Parts cost | Cost per product | Cost on U.S. operators
4 work-hours × $85 per hour = $340 | $2,640 | $2,980 | $327,800

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-21-03 Bombardier, Inc.: Amendment 39-19461; Docket No. FAA-2018-0546; Product Identifier 2017-NM-171-AD.

(a) Effective Date

This AD is effective November 19, 2018.

(b) Affected ADs

None.

(c) Applicability

This AD applies to Bombardier, Inc., Model BD-700-1A10 and BD-700-1A11 airplanes, certificated in any category, serial numbers 9002 through 9770 inclusive, 9772 through 9781 inclusive, and 9998.

(d) Subject

Air Transport Association (ATA) of America Code 53, Fuselage.

(e) Reason

This AD was prompted by reports of multiple in-flight departures of the aft belly fairing access panels. We are issuing this AD to address in-flight departures of the aft belly fairing access panels, which could result in runway hazards or hazards to people on the ground.

(f) Compliance

Comply with this AD within the compliance times specified, unless already done.

(g) Access Panel Modification

Within 15 months after the effective date of this AD, modify the aft belly fairing access panels by replacing the attachments, in accordance with the Accomplishment Instructions of the applicable service information identified in paragraphs (g)(1) and (g)(2) of this AD.

(1) For Model BD-700-1A10 airplanes: Bombardier Service Bulletin 700-53-050, or 700-53-6008, both Revision 01, both dated December 16, 2016.

(2) For Model BD-700-1A11 airplanes: Bombardier Service Bulletin 700-1A11-53-025, or 700-53-5009, both Revision 01, both dated December 16, 2016.

(h) Credit for Previous Actions

(1) This paragraph provides credit for actions required by paragraph (g) of this AD, if those actions were performed before the effective date of this AD using the applicable service information identified in paragraphs (h)(1)(i) through (h)(1)(iv) of this AD.

(i) Bombardier Service Bulletin 700-1A11-53-025, dated July 14, 2016.

(ii) Bombardier Service Bulletin 700-53-050, dated July 14, 2016.

(iii) Bombardier Service Bulletin 700-53-5009, dated July 14, 2016.

(iv) Bombardier Service Bulletin 700-53-6008, dated July 14, 2016.

(2) Incorporation of Bombardier Service Request for Product Support Action 124026 on an airplane prior to the effective date of this AD meets the intent of paragraph (g) of this AD for that airplane.

(i) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or Transport Canada Civil Aviation (TCCA); or Bombardier, Inc.'s TCCA Design Approval Organization (DAO). If approved by the DAO, the approval must include the DAO-authorized signature.

(j) Related Information

(1) Refer to Mandatory Continuing Airworthiness Information (MCAI) Canadian AD CF-2017-31, dated September 22, 2017, for related information. This MCAI may be found in the AD docket on the internet at http://www.regulations.gov by searching for and locating Docket No. FAA-2018-0546.

(2) For more information about this AD, contact Andrea Jimenez, Aerospace Engineer, Airframe and Mechanical Systems Section, FAA, New York ACO Branch, 1600 Stewart Avenue, Suite 410, Westbury, NY 11590; telephone 516-228-7330; fax 516-794-5531; email 9-avs-nyaco-cos@faa.gov.

(3) Service information identified in this AD that is not incorporated by reference is available at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 700-53-050, Revision 01, dated December 16, 2016.

(ii) Bombardier Service Bulletin 700-53-5009, Revision 01, dated December 16, 2016.

(iii) Bombardier Service Bulletin 700-1A11-53-025, Revision 01, dated December 16, 2016.

(iv) Bombardier Service Bulletin 700-53-6008, Revision 01, dated December 16, 2016.

(3) For service information identified in this AD, contact Bombardier, Inc., 400 Côte-Vertu Road West, Dorval, Québec H4S 1Y9, Canada; telephone 514-855-5000; fax 514-855-7401; email thd.crj@aero.bombardier.com; internet http://www.bombardier.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on October 2, 2018.
Michael Kaszycki,
Acting Director, System Oversight Division, Aircraft Certification Service.

[FR Doc. 2018-21972 Filed 10-12-18; 8:45 am]

BILLING CODE 4910-13-P